DEPARTMENT OF ENERGY

Federal Energy Regulatory Commission

Combined Notice of Filings #2

Take notice that the Commission received the following electric corporate filings:

Docket Numbers: EC13-16-000.

Applicants: Chisholm View Wind Project, LLC.

Description: Application for Authorization Under Section 203 of the Federal Power Act, Request for Expedited Consideration and Confidential Treatment of Chisholm View Wind Project, LLC.

Filed Date: 10/15/12.

Accession Number: 20121015-5221.

Comments Due: 5 p.m. ET 11/5/12.

Take notice that the Commission received the following electric rate filings:

Docket Numbers: ER13-90-000.

Applicants: Public Service Electric and Gas Company, PJM Interconnection, L.L.C.

Description: PJM TOs—Revisions to the PJM Tariff to Modify Cost Allocation to be effective 2/1/2013.

Filed Date: 10/11/12.

Accession Number: 20121011-5112.

Comments Due: 5 p.m. ET 11/9/12.

Docket Numbers: ER13-132-000.

Applicants: Southwestern Public Service Company.

Description: 2012-10-16-SPS-Sherman 3-CA-657-0 0 0 to be effective 10/17/2012.

Filed Date: 10/16/12.

Accession Number: 20121016-5026.

Comments Due: 5 p.m. ET 11/6/12.

Docket Numbers: ER13-133-000.

Applicants: Sycamore Cogeneration Company, Southern California Edison Company.

Description: Application of Sycamore Cogeneration Company and Southern California Edison Company for affiliate transaction.

Filed Date: 10/16/12.

Accession Number: 20121016-5049.

Comments Due: 5 p.m. ET 11/6/12.

Docket Numbers: ER13-134-000.

Applicants: GP Big Island, LLC.

Description: GP Big Island, LLC submits tariff filing per 35.1: Georgia-Pacific Entities to be effective 10/17/2012.

Filed Date: 10/16/12.

Accession Number: 20121016-5092.

Comments Due: 5 p.m. ET 11/6/12.

Docket Numbers: ER13-135-000.

Applicants: Brunswick Cellulose LLC.

Description: Brunswick Cellulose LLC submits tariff filing per 35.1: Georgia-Pacific Entities to be effective 10/17/2012.

Filed Date: 10/16/12.

Accession Number: 20121016-5093.

Comments Due: 5 p.m. ET 11/6/12.

Docket Numbers: ER13-136-000.

Applicants: Georgia-Pacific Brewton LLC.

Description: Georgia-Pacific Brewton LLC submits tariff filing per 35.1: Georgia-Pacific Entities to be effective 10/17/2012.

Filed Date: 10/16/12.

Accession Number: 20121016-5094.

Comments Due: 5 p.m. ET 11/6/12.

Docket Numbers: ER13-137-000.

Applicants: Georgia-Pacific Cedar Springs LLC.

Description: Georgia-Pacific Cedar Springs LLC submits tariff filing per 35.1: Georgia-Pacific Entities to be effective 10/17/2012.

Filed Date: 10/16/12.

Accession Number: 20121016-5095.

Comments Due: 5 p.m. ET 11/6/12.

Docket Numbers: ER13-138-000.

Applicants: Georgia-Pacific Consumer Operations LLC.

Description: Georgia-Pacific Consumer Operations LLC, Palatka submits tariff filing per 35.1: Georgia-Pacific Entities to be effective 10/17/2012.

Filed Date: 10/16/12.

Accession Number: 20121016-5096.

Comments Due: 5 p.m. ET 11/6/12.

Docket Numbers: ER13-139-000.

Applicants: Lockhart Power Company.

Description: Lockhart Power Company submits Notice of Cancellation of its OATT.

Filed Date: 10/16/12.

Accession Number: 20121016-5101.

Comments Due: 5 p.m. ET 11/6/12.

Docket Numbers: ER13-140-000.

Applicants: Georgia-Pacific Consumer Operations LLC.

Description: Georgia-Pacific Consumer Operations LLC, Port Hudson submits tariff filing per 35.1: Georgia-Pacific Entities to be effective 10/17/2012.

Filed Date: 10/16/12.

Accession Number: 20121016-5102.

Comments Due: 5 p.m. ET 11/6/12.

Docket Numbers: ER13-141-000.

Applicants: Georgia-Pacific Consumer Products LP.

Description: Georgia-Pacific Consumer Products LP, Naheola submits tariff filing per 35.1: Georgia-Pacific Entities to be effective 10/17/2012.

Filed Date: 10/16/12.

Accession Number: 20121016-5103.

Comments Due: 5 p.m. ET 11/6/12.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 16, 2012.
Nathaniel J. Davis, Sr.,
Deputy Secretary.

[FR Doc. 2012-26106 Filed 10-23-12; 8:45 am]

BILLING CODE 6717-01-P